DEPARTMENT OF THE INTERIOR

Bureau of Land Management

[LLCAC07000 L913100000 EI0000 LXSIGEOT0000]

Notice of Availability of the Final Environmental Impact Statement/Environmental Impact Report for the Casa Diablo IV Geothermal Development Project, Mono County, CA

AGENCY: Bureau of Land Management, Interior.

ACTION: Notice of Availability.

SUMMARY: In accordance with the National Environmental Policy Act of 1969, as amended (NEPA); the Federal Land Policy and Management Act of 1976, as amended; and the California Environmental Quality Act of 1970 (CEQA), the Bureau of Land Management (BLM), the United States Forest Service (USFS), and the Great Basin Unified Air Pollution Control District (GBUAPCD), a California State agency, have prepared a Final Environmental Impact Statement (EIS)/Environmental Impact Report (EIR) for the proposed Casa Diablo IV Geothermal Development Project near the town of Mammoth Lakes in Mono County, California, and by this notice are announcing its availability.

DATES: The BLM will not issue a final decision on the proposal for a minimum of 30 days after the date that the Environmental Protection Agency publishes its notice of availability in the Federal Register.

ADDRESSES: You may request an electronic copy of the Casa Diablo IV Geothermal Development Project Final EIS/EIR by any of the following methods:

• Mail: BLM Bishop Field Office, 351 Pacu Lane, Suite 100, Bishop, CA 93514; Attn: Casa Diablo IV Geothermal Development Project Final EIS/EIR, c/o Collin Reinhardt, Project Manager.

• Email: cabipubcom@blm.gov; Subject: Casa Diablo IV Geothermal Development Project Final EIS/EIR.

• Fax: 760-872-5050; Attn: Collin Reinhardt.

Interested persons may also review the Final EIS/EIR on the Internet at http://www.blm.gov/ca/st/en/fo/bishop.html.

Copies of the Final EIS/EIR are also available for public inspection at the BLM Bishop Field Office at the above address and at the Mono County Library at 400 Sierra Park Road, Mammoth Lakes, California.

FOR FURTHER INFORMATION CONTACT: Collin Reinhardt, Project Manager, telephone 760-872-5024; address 351 Pacu Lane, Suite 100, Bishop, CA 93514; email creinhardt@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Final EIS/EIR analyzes the potential impacts of authorizing the proposed Casa Diablo IV Geothermal Development Project near the town of Mammoth Lakes in Mono County, California. In accordance with the Geothermal Steam Act of 1970, as amended (30 U.S.C. 1001 et seq.), the BLM Bishop Field Office is the lead Federal agency responsible for permitting the proposed project and for completing the required environmental analysis under NEPA. The USFS Inyo National Forest is a cooperating Federal agency. The GBUAPCD is the lead State agency responsible for permitting the proposed project and for completing the required environmental analysis under CEQA.

The purpose and need for action is to respond to an application to construct and operate the Casa Diablo IV project on Federal geothermal leases administered by the BLM Bishop Field Office. The project would be located on Inyo National Forest lands and adjacent private lands within portions of Federal geothermal leases CACA-11667, CACA-14407, CACA-14408, and CACA-11672. The project would be located adjacent to three currently operating geothermal plants.

The 33 megawatt binary geothermal power plant would be the fourth geothermal plant in the vicinity. It would include up to 16 wells for production and injection, drilled 1,600 to 2,500 feet deep. Pipelines would be constructed to transport geothermal fluid from production wells to the power plant and the return of fluids from the power plant to injection wells. A 650-foot-long transmission line would connect the new power plant to the Southern California Edison substation at Substation Road. The power plant, access roads, well pads, pipelines, and transmission line would occupy approximately 80 acres. Of the 16 proposed production/injection well locations, 14 were previously analyzed and approved by the BLM as exploration wells in EA-170-02-15 (2001) and EA-170-05-04 (2005). Three of these exploration wells have already been drilled as of the time of the publication of this notice.

Three action alternatives and a no action alternative are analyzed in the Final EIS/EIR. Alternative 1 is the applicant's proposed action as outlined above; Alternative 2 considers an alternative location for the proposed power plant; and Alternative 3 (the BLM's preferred alternative) considers alternative pipeline alignments in Basalt Canyon and slightly alters the location of one proposed well. The GBUAPCD has identified Alternative 3 as the “environmentally superior alternative” pursuant to CEQA (14 C.C.R. 15126.6(e)(2)).

Alternative 4, the No Action Alternative, would not construct the CD-IV Project. The three existing geothermal power plants, the pipeline from Basalt Canyon, and two existing production wells would continue operating in accordance with their respective permits. Under the No Action Alternative, geothermal exploration in Basalt Canyon and Upper Basalt Canyon previously approved would be expected to continue. Previous analyses resulted in the approval of up to ten small diameter (slim hole) and six geothermal exploratory (large diameter) geothermal wells, some of which have been already drilled. Under the No Action Alternative, while no activities related to the Proposed Action would occur, nine additional small diameter and two large diameter exploratory wells could be drilled as previously authorized.

The Final EIS/EIR describes and analyzes the project's site-specific impacts on the following resources: Air, biological, climate change, cultural and paleontological, geothermal and groundwater, geologic, soil, mineral, grazing, wild horses and burros, land use, noise and vibration, population and housing, public safety, hazardous materials, fire, recreation, socioeconomics and environmental justice, traffic, utilities and public service, visual, and surface water.

In addition to scoping activities, a Notice of Availability of the Draft EIS/EIR was published in the Federal Register on November 16, 2012 (77 FR 68813), announcing a 60-day comment period ending January 15, 2013. In response to requests, the NEPA comment period was extended to January 30, 2013 and the CEQA comment period was extended to February 20, 2013. Additionally, two public meetings were held on December 5 and 6, 2012, in Mammoth Lakes and Lake Crowley, California, respectively.

One oral comment and 28 comment letters were received. Comments on the Draft EIS/EIR primarily pertained to the NEPA and CEQA processes, project alternatives, and impacts to various resources and uses. The agencies also received statements in support of the proposal.

All comments were addressed in the Final EIS/EIR, some of which resulted in corrections and clarifying text that did not significantly change the alternatives or analysis. Similarly, consultation pursuant to Section 106 of the National Historic Preservation Act and Section 7 of the Federal Endangered Species Act has resulted in revisions to the project as reflected in the Final EIS/EIS that further avoid impacts to cultural and biological resources.

Authority: 40 CFR 1506.6, 40 CFR 1506.10.

Thomas Pogacnik,
Deputy State Director.

[FR Doc. 2013-16128 Filed 7-3-13; 8:45 am]

BILLING CODE 4310-40-P